DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 3, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Indigenous Animals Harvesting and Meat Processing Grant Program.

OMB Control Number: 0570-NEW.

Summary of Collection: The Indigenous Animals Harvesting and Meat Processing Grant Program was authorized by Section 1001 of the American Rescue Plan (ARP) Act of 2021 (Pub. L. 117-2), which assists U.S. states and territories to build resilience in the middle of the supply chain and strengthen local and regional food systems. The Rural Business-Cooperative Service (RBCS) administers this program, an agency within USDA Rural Development, in partnership with the Agricultural Marketing Service (AMS) and in consultation with the Office of Tribal Relations (OTR).

Indigenous Animals Grants are part of the broader Biden-Harris Administration $1 billion investment to help expand independent processing capacity while also increasing competitiveness and equity in the food system. This administration has supported investment in tribal meat processing supply chains, including through the provision of direct technical assistance to Indian Country. This grant program seeks to improve the viability of tribal nations' food sovereignty initiatives and supply chain resiliency by developing and expanding animal protein processing activities related to indigenous animals. Additionally, this grant program is being made pursuant to the United States' government-to-government relationship with Indian tribes to further their self-governance goals of maintaining and improving food and agriculture supply chain resiliency.

Need and Use of the Information: The information provided will be used to determine applicant and project eligibility and to ensure that projects meet program goals and are for authorized purposes. Applicants that receive grant awards are also required to execute a Financial Assistance Agreement with the Agency and provide financial and project performance reports to the Agency to ensure that projects are being completed in a timely manner.

Description of Respondents: State, local, and Tribal governments.

Number of Respondents: 50.

Frequency of Responses: Annually.

Total Burden Hours: 2,328.

Rural Business-Cooperative Service

Title: 7 CFR 1951—Servicing and Collection Common Forms.

OMB Control Number: 0570-NEW.

Summary of Collection: The Rural Housing Service (RHS), Rural Business and Cooperative Service (RBCS) and Rural Utilities service (RUS) agencies within the Rural Development mission area, hereinafter referred to as Agency, is the credit Agency for agriculture and rural development for the United States Department of Agriculture. The Agency offers loans, grants and loan guarantees to help create jobs and support economic development and essential services such as housing; health care; first responder services and equipment; and water, electric and communications infrastructure.

The RHS is authorized under various sections of title V of the Housing Act of 1949, as amended, to provide financial assistance to construct, improve, alter, repair, replace, or rehabilitate dwellings, which will provide modest, decent, safe, and sanitary housing to eligible individuals in rural areas. The Consolidated Farm and Rural Development Act, as amended, authorizes the credit programs of the RHS, RBCS and RUS to provide financial assistance for essential community facilities such as construction of community facilities and water and waste systems; and the improvement, development, and financing of businesses, industries, and employment.

Need and Use of the Information: The applicant/borrower, contractor, subcontractor, material supplier, equipment lessor, architect, engineer, manufacturer or sponsor of manufactured housing collects the required information. Rural Development provides forms and/or guidelines to assist in the collection and submission of information. The information is usually submitted via hand delivery or U.S. Postal Service to the Rural Development Field Office, although receipt through email or USDA Service Center's eForms website is becoming more common. Occasionally, information is submitted directly to the Rural Development State Office.

The information is used by Rural Development to determine whether a loan/grant can be approved, to ensure that Rural Development has adequate security for the loans financed, to provide for sound construction and development work and to determine that the requirements of the applicable acts have been met. The information is also used to monitor compliance with the terms and conditions of the loan/grant and to monitor the prudent use of Federal funds.

Description of Respondents: Individuals and households.

Number of Respondents: 1.

Frequency of Responses: Annually.

Total Burden Hours: 6.

Rural Business-Cooperative Service

Title: 1980 Guaranteed Loan Common Forms Package.

OMB Control Number: 0570-NEW.

Summary of Collection: The Rural Housing Service (RHS), Rural Business and Cooperative Service (RBCS) and Rural Utilities service (RUS) agencies within the Rural Development mission area, hereinafter referred to as Agency, is the credit Agency for agriculture and rural development for the United States Department of Agriculture. The Agency offers loans, grants and loan guarantees to help create jobs and support economic development and essential services such as housing; health care; first responder services and equipment; and water, electric and communications infrastructure.

The Authorities that allow the Rural Housing Service (RHS), Rural Business and Cooperative Service (RBCS) and Rural Utilities service (RUS), Agencies within Rural Development (RD) are as follows:

The RHS is authorized under various sections of Title V of the Housing Act of 1949, as amended, to provide financial assistance to construct, improve, alter, repair, replace, or rehabilitate dwellings, which will provide modest, decent, safe, and sanitary housing to eligible individuals in rural areas. The Consolidated Farm and Rural Development Act, as amended, authorizes the credit programs of the RHS, RBCS and RUS to provide financial assistance for essential community facilities such as construction of community facilities and water and waste systems; and the improvement, development, and financing of businesses, industries, and employment.

Need and Use of the Information: The applicant/borrower, contractor, subcontractor, material supplier, equipment lessor, architect, engineer, manufacturer or sponsor of manufactured housing collects the required information. Rural Development provides forms and/or guidelines to assist in the collection and submission of information. The information is usually submitted via hand delivery or U.S. Postal Service to the Rural Development Field Office, although receipt through email or USDA Service Center's eForms website is becoming more common. Occasionally, information is submitted directly to the Rural Development State Office.

The information is used by Rural Development to determine whether a loan/grant can be approved, to ensure that Rural Development has adequate security for the loans financed, to provide for sound construction and development work and to determine that the requirements of the applicable acts have been met. The information is also used to monitor compliance with the terms and conditions of the loan/grant and to monitor the prudent use of Federal funds.

Description of Respondents: Individuals and households.

Number of Respondents: 1.

Frequency of Responses: Annually.

Total Burden Hours: 2.

Levi S. Harrell,
Departmental Information Collection Clearance Officer.

[FR Doc. 2023-26519 Filed 12-1-23; 8:45 am]

BILLING CODE 3410-XY-P